DEPARTMENT OF TRANSPORTATION

Federal Aviation Administration

14 CFR Part 39

[Docket No. 2003-CE-22-AD]

RIN 2120-AA64

Airworthiness Directives; Mitsubishi Heavy Industries, Ltd., MU-2B Series Airplanes

AGENCY: Federal Aviation Administration, DOT.

ACTION: Notice of proposed rulemaking (NPRM).

SUMMARY: This document proposes to supersede Airworthiness Directive (AD) 97-20-14, which applies to all Mitsubishi Heavy Industries, Ltd. (Mitsubishi) MU-2B series airplanes. AD 97-20-14 currently requires incorporating information into the Limitations Section of the Airplane Flight Manual (AFM) that would require pilot training before flight into known or forecast icing conditions after a certain date. AD 97-20-14 was the result of the Federal Aviation Administration's analysis that the training level of the pilots-in-command (PIC) of the MU-2B series airplanes made it difficult for pilots to recognize adverse operating conditions and operate safely while flying in icing conditions. Since issuance of AD 97-20-14, a new training video has been developed that includes information that is critical to safety of the MU-2B series airplanes. This proposed AD would require updating the AFM information to require this new video as the mandatory pilot training. The actions specified by this proposed AD are intended to decrease the chance of icing-related incidents or accidents of the MU-2B series airplanes due to pilot error.

DATES: The Federal Aviation Administration (FAA) must receive any comments on this proposed rule on or before August 5, 2003.

ADDRESSES: Submit comments to FAA, Central Region, Office of the Regional Counsel, Attention: Rules Docket No. 2003-CE-22-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-22-AD” in the subject line. If you send comments electronically as attached electronic files, the files must be formatted in Microsoft Word 97 for Windows or ASCII text.

You may view information related to this proposed AD at the address above.

FOR FURTHER INFORMATION CONTACT: Contact one of the following for questions or more information related to this subject:

—For General Icing Related Questions: Mr. Paul Pellicano, Aerospace Engineer (Icing Specialist), Atlanta Aircraft Certification Office, FAA, One Crown Center, 1895 Phoenix Boulevard, Suite 450, Atlanta, Georgia 30349; telephone: (770) 703-6064; facsimile: (770) 703-6097;

—For Questions Relating to Airplanes on Type Certificate Data Sheet (TCDS) A2PC: Mr. Carl Fountain, Aerospace Engineer, Los Angeles Aircraft Certification Office, FAA, 3960 Paramount Boulevard, Lakewood, California 90712; telephone: (562) 627-5222; facsimile: (562) 627-5228; or

—For Questions Relating to Airplanes on TCDS A10SW: Mr. Werner Koch, Aerospace Engineer, FAA, Airplane Certification Office, 2601 Meacham Boulevard, Fort Worth, Texas 76193-0150; telephone: (817) 222-5133; facsimile: (817) 222-5960.

SUPPLEMENTARY INFORMATION:

Comments Invited

How Do I Comment on This Proposed AD?

The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2003-CE-22-AD.” We will date stamp and mail the postcard back to you.

Discussion

Has FAA Taken Any Action to This Point?

Analysis that the training level of the pilots-in-command (PIC) of the MU-2B series airplanes made it difficult for them to recognize adverse operating conditions and operate safely while flying in icing conditions caused FAA to issue AD 97-20-14, Amendment 39-10150 (62 FR 51594, October 2, 1997). AD 97-20-14 currently requires incorporating information into the Limitations Section of the Airplane Flight Manual (AFM) that requires pilot training before further flight into known or forecast icing conditions after a certain date. This AFM limitation consists of the following:

On or after November 15, 1997, no person may serve as pilot-in-command (PIC) of a Mitsubishi MU-2B series airplane in a flight into known or forecast icing conditions, unless the PIC has received the following training since the beginning of the 24th calendar month before the scheduled flight: FAA-approved Biennial Icing Awareness Training (IAT), Mitsubishi Training Video No. YET-97336. This eight-hour training became available September 22, 1997, and is provided by Mitsubishi Heavy Industries at no cost, as part of the Mitsubishi Systems Review (MSR) program. To sign up for the planned training schedules or to arrange training at a more convenient time and location, contact Mitsubishi at (972) 980-5001. Training is also available at the Flight Safety International (Houston) and Reese Howell Enterprises training facilities. Mitsubishi will provide pilot log book endorsements upon the completion of this training. Please note that all operators of the affected airplanes must initiate action to notify and ensure that flight crewmembers are aware of this requirement.

What Has Happened Since AD 97-20-14 To Initiate This Proposed Action?

Since issuance of AD 97-20-14, Mitsubishi has developed a new training video, and FAA has determined that it includes information that is critical to the safety of the MU-2B series airplanes. This information includes:

—Procedures to recognize severe icing conditions that may overpower the propeller ice protection system and result in rapid airspeed loss without significant airframe ice accretion;

—Pneumatic deicing boot activation procedures as required by AD 2000-02-25, Amendment 39-11543 (65 FR 5422, February 4, 2000); and

—A clarified definition of icing conditions that is critical for operation of the engine ice protection system.

The FAA's Determination and an Explanation of the Provisions of this Proposed AD

What Has FAA Decided?

After examining the circumstances and reviewing all available information related to the incidents described above, we have determined that:

—The unsafe condition referenced in this document exists or could develop on type design Mitsubishi MU-2B series airplanes if the PIC is not proficient in the operating conditions of these airplanes;

—The actions of AD 97-20-14 should be changed to incorporate the new training video; and

—AD action should be taken in order to correct this unsafe condition.

What Would This Proposed AD Require?

This proposed AD would supersede AD 97-20-14 and would require incorporating information into the Limitations Section of the Airplane Flight Manual (AFM) that would require pilot training before further flight into known or forecast icing conditions after a certain date. This AFM limitation would consist of the following:

On or before ____ (6 months after the effective date of this AD), no person may serve as pilot-in-command (PIC) of a Mitsubishi MU-2B series airplane in a flight into known or forecast icing conditions, unless the PIC has received the following training since the beginning of the 24th calendar month before the scheduled flight: FAA-approved Mitsubishi Icing Awareness Training (IAT) video YET-01295. If training mandated by AD 97-20-14 has been received in the 24 months before ____ (6 months after the effective date of this AD), then the new training must be done no later than 24 months after the date of the AD 97-20-14 training. This eight-hour training has been available since July 2, 2002, and is provided by Mitsubishi Heavy Industries at no cost, as part of the Mitsubishi Systems Review (MSR) program. To sign up for the planned training schedules or to arrange training at a more convenient time and location, contact Turbine Aircraft Services at (972) 248-3108. Training is also available at the Sim Com and Reese Howell Enterprises training facilities and some local Flight Standards District Offices (FSDOs). Mitsubishi will provide pilot log book endorsements upon the completion of this training. Please note that all operators of the affected airplanes must initiate action to notify and ensure that flight crewmembers are aware of this requirement.

How Does the Revision to 14 CFR Part 39 Affect This Proposed AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Airplanes Would This Proposed AD Impact?

We estimate that this proposed AD affects 300 airplanes in the U.S. registry.

What Would Be the Cost Impact of This Proposed AD on Owners/Operators of the Affected Airplanes?

The pilot can accomplish all the work associated with this proposed action. We estimate less than 1 hour to incorporate the information into the AFM and another 8 hours to view the training video.

Compliance Time of This Proposed AD

What Would Be the Compliance Time of This Proposed AD?

The compliance time of the proposed AFM incorporation is “within the next 10 days after the effective date of this AD.” The actual viewing of the training video would be incorporated into the current schedule of the video required by AD 97-20-14.

Why Is This Proposed Compliance Time Presented in Calendar Time Instead of Hours Time-in-Service (TIS)?

The unsafe condition described in this proposed AD is not a direct result of airplane design or operation, but is attributed to the expertise and knowledge of the PIC. For this reason, FAA has determined that a compliance time based upon calendar time should be proposed instead of a certain number of hours TIS.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 97-20-14, Amendment 39-10150 (62 FR 51594, October 2, 1997), and by adding a new AD to read as follows:

Mitsubishi Heavy Industries, Ltd.: Docket No. 2003-CE-22-AD; Supersedes AD 97-20-14, Amendment 39-10150.

(a) What airplanes are affected by this AD? This AD affects Models MU-2B, MU-2B-10, MU-2B-15, MU-2B-20, MU-2B-25, MU-2B-26, MU-2B-26A, MU-2B-30, MU-2B-35, MU-2B-36, MU-2B-36A, MU-2B-40, and MU-2B-60 airplanes, all serial numbers, that are certificated in any category.

(b) Who must comply with this AD? Anyone who wishes to operate any of the airplanes identified in paragraph (a) of this AD must comply with this AD.

(c) What problem does this AD address? The actions specified by this AD are intended to decrease the chance of icing-related incidents or accidents of the MU-2B series airplanes due to pilot error.

(d) What actions must I accomplish to address this problem? To address this problem, you must accomplish the following:

Actions | Compliance | Procedures
Incorporate information into the Limitations Section of the Airplane Flight Manual (AFM) that would require pilot training before further flight into known or forecast icing conditions after a certain date. This AFM limitation would consist of the following: “On or before ____(6 months after the effective date of this AD), no person may serve as pilot-in-command (PIC) of a Mitsubishi MU-2B series airplane in a flight into known or forecast icing conditions, unless the PIC has received the following training since the beginning of the 24th calendar month before the scheduled flight: FAA-approved Mitsubishi IAT video YET-01295. If training mandated by AD 97-20-14 has been received in the 24 months before ____(6 months after the effective date of this AD), then the new training must be done no later than 24 months after the date of the AD 97-20-14 training. This eight-hour training has been available since July 2, 2002, and is provided by Mitsubishi Heavy Industries at no cost, as part of the Mitsubishi Systems Review (MSR) program. To sign up for the planned training schedules or to arrange training at a more convenient time and location, contact Turbine Aircraft Services at (972) 248-3108. Training is also available at Sim Com and Reese Howell Enterprises training facilities and some local Flight Standards District Offices (FSDOs). Mitsubishi will provide pilot log book endorsements upon the completion of this training. Please note that all operators of the affected airplanes must initiate action to notify and ensure that flight crewmembers are aware of this requirement” | Do the AFM incorporation within the next 10 days after the effective date of this AD | The owner/operator holding at least a private pilot certificate as authorized by section 43.7 of the Federal Aviation Regulations (14 CFR 43.7) may accomplish the AFM incorporation requirement of this AD. Make an entry into the aircraft records showing compliance with these portions of the AD in accordance with section 43.9 of the Federal Aviation Regulations (14 CFR 43.9).

(e) Can I comply with this AD in any other way?

(1) To use an alternative method of compliance or adjust the compliance time, follow the procedures in 14 CFR 39.19. Send these requests to the Manager, Standards Office, Small Airplane Directorate, 901 Locust, Room 301, Kansas City, Missouri 64106; telephone: (816) 329-4110; facsimile: (816) 329-4090.

(2) For information on any already approved alternative methods of compliance, contact Mr. Paul Pellicano, Aerospace Engineer (Icing Specialist), Atlanta Aircraft Certification Office, FAA, One Crown Center, 1895 Phoenix Boulevard, Suite 450, Atlanta, Georgia 30349; telephone: (770) 703-6064; facsimile: (770) 703-6097.

(3) Alternative methods of compliance approved in accordance with AD 97-20-14, which is superseded by this AD, are not approved as alternative methods of compliance with this AD.

(f) How do I get copies of the documents referenced in this AD? You may view information related to this document at FAA, Central Region, Office of the Regional Counsel, 901 Locust, Room 506, Kansas City, Missouri 64106.

(g) Does this AD action affect any existing AD actions? This amendment supersedes AD 97-20-14, Amendment 39-10150.

Issued in Kansas City, Missouri, on May 28, 2003.
David R. Showers,
Acting Manager, Small Airplane Directorate, Aircraft Certification Service.

[FR Doc. 03-13980 Filed 6-3-03; 8:45 am]

BILLING CODE 4910-13-P